DEPARTMENT OF JUSTICE

Notice of Lodging of Stipulated Order Under the Clean Water Act

Notice is hereby given that on July 22, 2011, a proposed Stipulated Order in United States v. Government of the Virgin Islands et al., No. 84-104, was lodged with the United States District Court for the District of the Virgin Islands. On March 11, 2010, the United States filed an emergency motion in this action requesting that the Court order the Virgin Islands Waste Management Authority (“VIWMA”) and the Government of the Virgin Islands (“VI”) (collectively the “Defendants”) to (a) Immediately cease the unlawful discharge of raw sewage into the ocean as a result of the failure of the Figtree Pump Station located on St. Croix, and (b) implement repairs at the Figtree Pump Station, the Barren Spot Pump Station, also located on St. Croix, and the Cancryn Pump Station, located on St. Thomas. On March 18, 2010, the Court issued an order for short-term relief. The United States, VIWMA, and the VI have now stipulated to a further Order that provides additional relief with respect to the emergency motion. Pursuant to the Stipulated Order, the Defendants have agreed, among other things, to: (a) Place $300,000 into a revolving fund to be used if needed for the emergency repair or replacement of failed pumps or other equipment in the wastewater collection system operated by VIWMA, (b) have at least two house pumps and an emergency backup pump available at the Figtree, Barren Spot, LBJ, and Lagoon Street pump stations located on St. Croix, as well as at the Cancryn pump station located on St. Thomas, within 180 days of the date of the Court's approval of the Stipulated Order, (c) develop and implement a comprehensive Collection System Emergency Response Plan, (d) develop and implement a comprehensive Collection System Operation and Maintenance Plan, and (e) implement six capital projects at a total cost of about $7 million (improvements to the Barren Spot, Lagoon Street, Figtree and LBJ pump stations located on St. Thomas and to the Cancryn pump station located on St. Croix, as well as repair of the Krause Lagoon sewer line located on St. Croix), a portion of which may be paid for with federal grant funds.

For a period of thirty days from the date of this publication, the Department of Justice will receive and consider comments relating to the Consent Decree. All comments must be received by the Department of Justice within this thirty-day period. Comments should be addressed to the Assistant Attorney General, Environment and Natural Resources Division, and either e-mailed to pubcomment-ees.enrd@usdoj.gov or mailed to P.O. Box 7611, U.S. Department of Justice, Washington, DC 20044, and should refer to United States v. Government of the Virgin Islands et al., No. 84-104 (D.V.I.) and D.J. Ref. No. 90-5-1-1-1911A. A copy of any comments should be sent to Donald G. Frankel, Senior Counsel, Department of Justice, Environmental Enforcement Section, One Gateway Center, Suite 616, Newton, MA 02458, or e-mailed to donald.frankel@usdoj.gov.

The Stipulated Order may be examined at the Office of the United States Attorney, District of the Virgin Islands, Federal Building and United States Courthouse, 5500 Veterans Drive, Suite 260, Charlotte Amalie, St. Thomas, Virgin Islands 00802-6424 (contact Joycelyn Hewlett at 617-748-3100). During the public comment period, the Stipulated Order may also be examined on the following Department of Justice website, http://www.usdoj.gov/enrd/Consent_Decrees.html. A copy of the Stipulated Order may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the Stipulated Order from the Consent Decree Library, please enclose a check in the amount of $7.50 (25 cents per page reproduction cost) payable to the U.S. Treasury (if the request is by fax or e-mail, forward a check to the Consent Decree library at the address stated above).

Ronald G. Gluck,
Assistant Section Chief, Environmental Enforcement Section, Environment and Natural Resources Division.

[FR Doc. 2011-19453 Filed 8-1-11; 8:45 am]

BILLING CODE 4410-15-P